DEPARTMENT OF JUSTICE

Bureau of Alcohol, Tobacco, Firearms and Explosives

[OMB Number 1140-0097]

Agency Information Collection Activities: Proposed Collection; Comments Requested: Supplemental Information on Water Quality Considerations

ACTION: 30-day notice.

The Department of Justice (DOJ), Bureau of Alcohol, Tobacco, Firearms and Explosives (ATF), will submit the following information collection request to the Office of Management and Budget (OMB) for review and approval in accordance with the Paperwork Reduction Act of 1995. The proposed information collection is published to obtain comments from the public and affected agencies. This proposed information collection was previously published in the Federal Register Volume 78, Number 245, page 77167 on December 20, 2013, allowing for a 60 day comment period. The purpose of this notice is to allow for an additional 30 days for public comment until March 27, 2014. This process is conducted in accordance with 5 CFR 1320.10.

Written comments concerning this information collection should be sent to the Office of Information and Regulatory Affairs, Office of Management and Budget, Attn: DOJ Desk Officer. The best way to ensure your comments are received is to email them to OIRA_submission@omb.eop.gov. All comments should reference the eight digit OMB number or the title of the collection.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Summary of Information Collection

(1) Type of Information Collection: Extension of a currently approved collection.

(2) Title of the Form/Collection: Supplemental Information on Water Quality Considerations.

(3) Agency form number, if any, and the applicable component of the Department of Justice sponsoring the collection: Form Number: ATF F 5000.30. Bureau of Alcohol, Tobacco, Firearms and Explosives.

(4) Affected public who will be asked or required to respond, as well as a brief abstract: Primary: Business or other for-profit. Other: None.

Need for Collection

ATF collects this data for the purpose of identifying waste product(s) generated as a result of explosives operations, the disposal of the products into navigable waters, and if there is any adverse impact on the environment. The information may be disclosed to other Federal, State,and local law enforcement and regulatory personnel to verify information on the form and to aid in the enforcement of environmental laws.

(5) An estimate of the total number of respondents and the amount of time estimated for an average respondent to respond: It is estimated that 680 respondents will complete a 30 minute form.

(6) An estimate of the total public burden (in hours) associated with the collection: There are an estimated 340 annual total burden hours associated with this collection.

If additional information is required contact: Jerri Murray, Department Clearance Officer, Policy and Planning Staff, Justice Management Division, Department of Justice, Two Constitution Square, 145 N Street NE., Room 3W-1407B, Washington, DC 20530.

Dated: February 19, 2014.
Jerri Murray,
Department Clearance Officer for PRA, U.S. Department of Justice.

[FR Doc. 2014-03948 Filed 2-24-14; 8:45 am]

BILLING CODE 4410-FY-P